NATIONAL SCIENCE FOUNDATION

Waste Regulation

AGENCY: National Science Foundation.

ACTION: Notice of permit modification request received under the Antarctic Conservation Act of 1978, Public Law 95-541.

SUMMARY: The National Science Foundation (NSF) is required to publish notice of requests to modify permits issued to conduct activities regulated under the Antarctic Conservation Act of 1978 (Pub. L. 95-541; Code of Federal Regulations Title 45, Part 670). This is the required notice.

DATES: Interested parties are invited to submit written data, comments, or views with respect to the modification request on or before April 4, 2012. The permit modification request may be inspected by interested parties at the Permit Office, address below.

ADDRESSES: Comments should be addressed to the Permit Office, Room 755, Office of Polar Programs, National Science Foundation, 4201 Wilson Boulevard, Arlington, Virginia 22230.

FOR FURTHER INFORMATION CONTACT: Polly A. Penhale, Environmental Officer, at the above address or (703) 292-8030.

SUPPLEMENTARY INFORMATION: Lockheed Martin Corporation is in the phase-in period for assuming responsibility for the contract to provide operations support to the United States Antarctic Program. As part of that support, Lockheed Martin personnel will be assuming responsibility for waste management activities. Those activities are currently regulated under the terms of a permit held by the incumbent contractor, Raytheon Polar Services Company, Permit Number 2010 WM-004. Lockheed Martin has requested that the permit be transferred to them. The transfer would be effective on or about 1 April 2012, the date the new contract is anticipated to take effect. The transfer would modify the permit to change the permit holder from Raytheon Polar Services Company to Lockheed Martin Corporation, Information Systems & Global Solutions (I&GS) Engineering Services Segment, 700 N. Frederick Avenue, Gaithersburg, MD 20879-3328. All other permit conditions would remain the same.

Nadene G. Kennedy,
Permit Officer.

[FR Doc. 2012-5164 Filed 3-2-12; 8:45 am]

BILLING CODE 7555-01-P